DEPARTMENT OF TRANSPORTATION

Federal Highway Administration

Environmental Impact Statement: Mendocino County, California

AGENCY: Federal Highway Administration (FHWA), DOT.

ACTION: Notice of Intent.

SUMMARY: The FHWA is issuing this notice to advise the public that an environmental impact statement will be prepared for a proposed highway project in Mendocino County, near the town of Hopland, California.

FOR FURTHER INFORMATION CONTACT: C. Glenn Clinton, Team Leader, Program Delivery Team—North, Federal Highway Administration, 980 Ninth Street, Suite 400, Sacramento, California 95814-2724, Telephone: 916-498-5020.

SUPPLEMENTARY INFORMATION: The FHWA, in cooperation with the California Department of Transportation (Caltrans), will prepare an environmental impact statement (EIS) on a proposed project to construct a four lane freeway or expressway bypass of the community of Hopland, on Route 101 in Southern Mendocino County. The project limits extend from kp 14.2 to 22.5 (pm 8.8 to 14.0). The project is needed to reduce operational conflicts, accommodate existing and future traffic demand, reduce travel time, increase safety, improve air quality, reduce noise in Hopland and provide the facility concept identified in the “Inter-regional Transportation Strategic Plan”.

Three aligments are being proposed at this time as well as a “No Build” alternative. All of the alignments potentially affect oak woodlands, riparian forest and pre-historic cultural resources. A Public Open House has been held to solicit opinions from the community and a Project Development Team has been formed to determine the scope of the project. There will be a public scoping meeting to discuss the proposed project and another opportunity for public comment on the draft environmental document during the circulation phase of the draft environmental impact statement (DEIS).

To ensure that the full range of issues related to this proposed action is addressed and all significant issues identified, comments and suggestions are invited from all interested parties. The views of agencies that may have interest in the effect of the proposal on historic properties are specifically solicited. Comments or questions concerning this proposed action and the EIS should be directed to the FHWA at the address provided above.

(Catalog of Federal Domestic Assistance Program Number 20.205, Highway Research, Planning and Construction. The regulations implementing Executive Order 12372 regarding intergovernmental consultation on Federal programs and activities apply to this program)

Issued on February 15, 2001.
C. Glenn Clinton,
Team Leader, Program Delivery Team—North, Sacramento, California.

[FR Doc. 01-4705 Filed 2-26-01; 8:45 am]

BILLING CODE 4910-22-M